Title 3—

The President

Proclamation 8295 of September 26, 2008

National Hunting and Fishing Day, 2008

By the President of the United States of America

A Proclamation

From our rugged peaks and mountains to our shining seas, our Nation is blessed with remarkable natural treasures. These magnificent landscapes are places where families and friends can create lasting memories and enjoy the outdoors. On National Hunting and Fishing Day, our country honors the many contributions of America's hunters and anglers, who add to our heritage and keep our wildlife populations healthy and strong.

Our Nation's sportsmen and women are among our foremost conservationists. They care deeply about our wildlife habitats, and they have contributed billions of dollars to wildlife restoration through the Pittman-Robertson Act, which is a levy on certain sporting goods. This investment has helped restore many species, including the American elk, black bear, and wild turkey. Through the Federal Waterfowl Stamp program, the conservation of habitats for migratory birds has been greatly improved. By protecting our Nation's wildlife, we can continue to advance the values of good stewardship.

My Administration has created, protected, and restored millions of acres of wetlands. Through my Ocean Action Plan, we are protecting fish populations and marine habitat. I was pleased to amend Executive Order 12962 to recognize the value of recreational fishing as a sustainable activity in Federal waters. We have also improved the health of millions of acres of forests under the Healthy Forests Restoration Act. This important legislation is helping to protect our public lands from the risk of catastrophic wildfires and contributes to a healthier environment for all Americans.

On this special day, we remember our responsibility to preserve the great American landscape for future generations, and we celebrate the joy of hunting and fishing in the great outdoors.

NOW, THEREFORE, I, GEORGE W. BUSH, President of the United States of America, by virtue of the authority vested in me by the Constitution and laws of the United States, do hereby proclaim September 27, 2008, as National Hunting and Fishing Day. I call upon the people of the United States to join me in recognizing the contributions of America's hunters and anglers, and all those who work to conserve our Nation's fish and wildlife resources.

IN WITNESS WHEREOF, I have hereunto set my hand this twenty-sixth day of September, in the year of our Lord two thousand eight, and of the Independence of the United States of America the two hundred and thirty-third.

[FR Doc. E8-23326

Filed 9-30-08; 11:15 am]

Billing code 3195-01-P